FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 22, 2003.

A. Federal Reserve Bank of Atlanta (Sue Costello, Vice President) 1000 Peachtree Street, N.E., Atlanta, Georgia 30303:

1. Shuratt Whitworth, Lavonia, Georgia; Rachel M.Whitworth, Lavonia, Georgia; Mary Patsy Gilbert, Lavonia, Georgia; W.M. Gilbert, Lavonia, Georgia; Cynthia D. Gilbert, Lavonia, Georgia; Tracie G. Dowis, Lexington, South Carolina; Grant Michael Dowis, Lexington, South Carolina; Madeline Grace Dowis, Lexington, South Carolina; Brady Williams, Franklin, Tennessee; Tammy G. Williams, Franklin, Tennessee; Christopher C. Whitworth, Hartwell, Georgia; Franklin Shuratt Whitworth, Hartwell, Georgia; Randy S. Whitworth, Hartwell, Georgia; Caroline Louise Kelly, Monroe, Georgia; Leigh W. Kelly, Monroe, Georgia; Matthew Thomas Kelly, Monroe, Georgia; Wesley William Kelly, Monroe, Georgia; Wendy Whitworth, Lilburn, Georgia; Barry S. Whitworth, Toccoa, Georgia; Sarah Elizabeth Whitworth, Toccoa, Georgia; Steven Jarrett Whitworth, Toccoa, Georgia; The H. W. Whitworth Irrevocable Trust, Mary Patsy Gilbert, Trustee, Lavonia, Georgia; The H. W. Whitworth Irrevocable Trust, Shuratt Whitworth, Trustee, Lavonia, Georgia; Whitworth Family Partnership II, Shuratt Whitworth, General Partner, Lavonia, Georgia; and the Whitworth Family Partnership III, Mary Patsy Gilbert, General Partner, Lavonia, Georgia; to retain voting shares of First Security Bankshares, Inc., and thereby indirectly retain voting shares of Northeast Georgia Bank, both of Lavonia, Georgia.

Board of Governors of the Federal Reserve System, May 2, 2003.
Jennifer J. Johnson,
Secretary of the Board.

[FR Doc. 03-11425 Filed 5-7-03; 8:45 am]

BILLING CODE 6210-01-S